DEPARTMENT OF THE TREASURY

Internal Revenue Service

26 CFR Part 1

[REG-106681-02]

RIN 1545-BA59

Modification of Check the Box; Hearing Cancellation

AGENCY: Internal Revenue Service (IRS), Treasury.

ACTION: Cancellation of notice of public hearing on proposed rulemaking.

SUMMARY: This document provides notice of cancellation of a public hearing on proposed rulemaking that clarify that qualified REIT subsidiaries, qualified subchapter S subsidiaries, and single owner eligible entities that are disregarded as entities separate from their owners are treated as separate entities for purposes of any Federal tax liability for which the entity is liable.

DATES: The public hearing originally scheduled for Thursday, July 22, 2004, at 10 a.m., is cancelled.

FOR FURTHER INFORMATION CONTACT: Treena Garrett of the Publications and Regulations Branch, Legal Processing Division, Associate Chief Counsel (Procedure and Administration), (202) 622-7180 (not a toll-free number).

SUPPLEMENTARY INFORMATION: A notice of proposed rulemaking and notice of public hearing that appeared in the Federal Register on Thursday, April 1, 2004, (69 FR 17117), announced that a public hearing was scheduled for Thursday, July 22, 2004, at 10 a.m. in the Auditorium, Internal Revenue Service Building, 1111 Constitution Avenue, NW., Washington, DC. The subject of the public hearing is proposed regulations under sections 856 and 1361 of the Internal Revenue Code. The public comment period for these proposed regulations expired on Wednesday, June 30, 2004. Outlines of oral comments were due on Thursday, July 1, 2004.

The notice of proposed rulemaking and notice of public hearing instructed those interested in testifying at the public hearing to submit a request to speak and an outline of the topics to be addressed. As of Tuesday, July 13, 2004, no one has requested to speak. Therefore, the public hearing scheduled for Thursday, July 22, 2004, is cancelled.

Cynthia E. Grigsby,
Acting Chief, Publications and Regulations Branch, Legal Processing Division, Associate Chief Counsel (Procedure and Administration).

[FR Doc. 04-16234 Filed 7-16-04; 8:45 am]

BILLING CODE 4830-01-P